DEPARTMENT OF COMMERCE

National Oceanic and Atmospheric Administration

RIN 0648-XC212

New England Fishery Management Council; Public Meeting

AGENCY: National Marine Fisheries Service (NMFS), National Oceanic and Atmospheric Administration (NOAA), Commerce.

ACTION: Notice; public meeting.

SUMMARY: The New England Fishery Management Council's (Council) Groundfish Committee will meet to consider actions affecting New England fisheries in the exclusive economic zone (EEZ).

DATES: The meeting will be held on Wednesday, September 19, 2012 at 9 a.m.

ADDRESSES: The meeting will be held at the Fairfield Inn & Suites, 185 MacArthur Drive, New Bedford, MA 02740; telephone: (774) 634-2000; fax: (774) 634-2001.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

The Groundfish Oversight Committee will discuss possible adjustments to sector management measures and issues related to setting Acceptable Biological Catches (ABCs), Annual Catch Limits (ACLs), and Accountability Measures (AMs). They will continue to develop options to improve sector monitoring, including both at-sea and dockside monitoring. They may discuss appropriate monitoring coverage levels and full retention of allocated groundfish species. The Committee will develop measures that may help mitigate expected low catch levels in fishing year 2013. These measures could include modifications to groundfish closed areas (including habitat areas). The Committee will further review a motion passed at its last meeting that would provide increased access to most groundfish closed areas, and may consider modifications to that motion that will be forwarded to the Council. They may consider other modifications to the sector program, such as creating areas for fishing on Georges Bank (GB) that are not subject to the GB yellowtail flounder ACE limits. With respect to ABCs/ACLs/AMs, the Committee will consider options for addressing catches of groundfish stocks (primarily SNE/MAB windowpane flounder) by other fisheries (such as the fluke, scup and squid fisheries), and may either develop options for additional sub-ACLs or may propose changes to accountability measures to control those catches. The Committee may also discuss other issues that may be incorporated into the framework. Options identified by the Committee will be included in a future management action (Framework Adjustment 48) that will be considered by the Council in the fall of 2012. The Committee is also expected to receive a preliminary report on catch advice developed for Eastern Georges Bank cod and haddock, and Georges Bank yellowtail flounder that will be developed by the Transboundary Management Guidance Committee. The Committee may provide comments for consideration by the Council when it considers these Fishing Year 2013 quotas. The Committee may discuss scallop/groundfish management issues, such as yellowtail flounder allocations and the timing of scallop vessel access to groundfish closed areas. Other business may be discussed.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: August 29, 2012.
Tracey L. Thompson,
Acting Deputy Director, Office of Sustainable Fisheries, National Marine Fisheries Service.

[FR Doc. 2012-21687 Filed 8-31-12; 8:45 am]

BILLING CODE 3510-22-P